DEPARTMENT OF JUSTICE

Antitrust Division

Notice Pursuant to the National Cooperative Research and Production Act of 1993—MLCommons Association

Notice is hereby given that on April 28, 2021 pursuant to Section 6(a) of the National Cooperative Research and Production Act of 1993, 15 U.S.C. Section 4301 et seq. (the “Act”), MLCommons Association (“MLCommons”) has filed written notifications simultaneously with the Attorney General and the Federal Trade Commission disclosing changes in its membership. The notifications were filed for the purpose of extending the Act's provisions limiting the recovery of antitrust plaintiffs to actual damages under specified circumstances. Specifically, Super Micro Computer, Inc., San Jose, CA; Moreh Inc., Seoul, REPUBLIC OF KOREA; Mohammed Lataifeh (individual member), Sharjah, UNITED ARAB EMIRATES; Guodong Zhang (individual member), Toronto, CANADA; Hop Services LLC, Atlanta, GA; Lenovo Global Technology (United States) Inc., Morrisville, NC; Daniel Snider (individual member), Toronto, CANADA; Prof. Dr. Philipp Hennig (individual member), Tübingen, GERMANY, Cirrus AI (Pty) Ltd., Noordheuwel, SOUTH AFRICA; Frank Schneider (individual member), Tübingen, GERMANY; Jeyan Thiyagalingam (individual member), Didcot, UNITED KINGDOM; Jiun Jeong (individual member), Seoul, REPUBLIC OF KOREA; Pawel Cyrta (individual member), Warsaw, POLAND; OctoML, Inc., Seattle, WA; NeuReality LTD., Ceaseria, ISRAEL; Mark Marzumder (individual member), Cambridge, MA; Pengxiang Xu (individual member), Shenzhen, PEOPLE'S REPUBLIC OF CHINA; and Gigantor Technologies, Inc., Melbourne Beach, FL have joined as parties to this venture.

No other changes have been made in either the membership or planned activity of the group research project. Membership in this group research project remains open and MLCommons intends to file additional written notifications disclosing all changes in membership.

On September 15, 2020, MLCommons filed its original notification pursuant to Section 6(a) of the Act. The Department of Justice published a notice in the Federal Register pursuant to Section6(b) of the Act on September 29, 2020 (85 FR 61032).

The last notice was filed with the Department on February 12, 2021. A notice was published in the Federal Register pursuant to Section 6 (b) of the Act on April 8, 2021 (86 FR 18299).

Suzanne Morris,
Chief, Premerger and Division Statistics, Antitrust Division.

[FR Doc. 2021-10928 Filed 5-24-21; 8:45 am]

BILLING CODE 4410-11-P